SMALL BUSINESS ADMINISTRATION

[Declaration of Disaster #3563]

Territory of American Samoa

As a result of the President's major disaster declaration for Public Assistance on January 13, 2004, and subsequent amendment effective January 20, 2004 adding Individual Assistance, I find that The Island of Tutuila and The Manu'a Islands located within the Territory of American Samoa constitute a disaster area due to damages caused by high winds, high surf and heavy rainfall associated with Tropical Cyclone Heta that occurred on January 2, 2004, through January 6, 2004. Applications for loans for physical damage as a result of this disaster may be filed until the close of business on March 22, 2004, and for economic injury until the close of business on October 20, 2004, at the address listed below or other locally announced locations:

U.S. Small Business Administration, Disaster Area 4 Office, P.O. Box 419004, Sacramento, CA 95841-9004.

The interest rates are:

| Percent
For Physical Damage:
Homeowners with credit available elsewhere | 6.250
Homeowners without credit available elsewhere | 3.125
Businesses with credit available elsewhere | 6.123
Businesses and non-profit organizations without credit available elsewhere | 3.061
Others (including non-profit organizations) with credit available elsewhere | 4.875
For Economic Injury:
Businesses and small agricultural cooperatives without credit available elsewhere: | 3.061

The number assigned to this disaster for physical damage is 356308 and for economic injury the number is 9Z2200.

(Catalog of Federal Domestic Assistance Program Nos. 59002 and 59008).
Dated: January 21, 2004.
Herbert L. Mitchell,
Associate Administrator for Disaster Assistance.

[FR Doc. 04-1736 Filed 1-27-04; 8:45 am]

BILLING CODE 8025-01-P